DEPARTMENT OF ENERGY

Federal Energy Regulatory Commission

Combined Notice of Filings #1

Take notice that the Commission received the following electric corporate filings:

Docket Numbers: EC21-91-000.

Applicants: Broadlands Wind Farm LLC, Lexington Chenoa Wind Farm LLC.

Description: Application for Authorization Under Section 203 of the Federal Power Act of Broadlands Wind Farm LLC, et al.

Filed Date: 5/7/21.

Accession Number: 20210507-5230.

Comments Due: 5 p.m. ET 5/28/21.

Docket Numbers: EC21-92-000.

Applicants: Rensselaer Generating LLC.

Description: Application for Authorization Under Section 203 of the Federal Power Act of Rensselaer Generating LLC, et al.

Filed Date: 5/7/21.

Accession Number: 20210507-5232.

Comments Due: 5 p.m. ET 5/28/21.

Take notice that the Commission received the following electric rate filings:

Docket Numbers: ER20-1863-004.

Applicants: Ingenco Wholesale Power, L.L.C.

Description: Compliance filing: Informational Filing Pursuant to Section 2 of the PJM Tariff to be effective N/A.

Filed Date: 5/10/21.

Accession Number: 20210510-5087.

Comments Due: 5 p.m. ET 6/1/21.

Docket Numbers: ER21-1065-001.

Applicants: TransCanyon Western Development, LLC.

Description: Compliance filing: TransCanyon Western Formula Rate Compliance Filing to be effective 4/7/2021.

Filed Date: 5/6/21.

Accession Number: 20210506-5158.

Comments Due: 5 p.m. ET 5/27/21.

Docket Numbers: ER21-1738-000.

Applicants: Unitil Power Corp.

Description: Unitil Power Corp. submits Statement of all billing transactions under the Amended Unitil System Agreement for the period January 1, 2020 to December 31, 2020.

Filed Date: 4/22/21.

Accession Number: 20210422-5220.

Comments Due: 5 p.m. ET 5/13/21.

Docket Numbers: ER21-1873-000.

Applicants: ISO New England Inc.

Description: ISO New England Inc., submits First Quarter 2021 Capital Budget Report.

Filed Date: 5/7/21.

Accession Number: 20210507-5226.

Comments Due: 5 p.m. ET 5/28/21.

Docket Numbers: ER21-1874-000.

Applicants: Indiana Crossroads Wind Farm LLC.

Description: Compliance filing: Compliance Filing and Revised Market-Based Rate Tariff to be effective 3/15/2021.

Filed Date: 5/10/21.

Accession Number: 20210510-5068.

Comments Due: 5 p.m. ET 6/1/21.

Docket Numbers: ER21-1875-000.

Applicants: Arizona Public Service Company.

Description: § 205(d) Rate Filing: OATT Modifications—Administrative Filing to be effective 7/10/2021.

Filed Date: 5/10/21.

Accession Number: 20210510-5123.

Comments Due: 5 p.m. ET 6/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2021.
Debbie-Anne A. Reese,
Deputy Secretary.

[FR Doc. 2021-10214 Filed 5-13-21; 8:45 am]

BILLING CODE 6717-01-P